DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Mexico Electronic Logbook.

Form Number(s): None.

OMB Approval Number: 0648-0543.

Type of Request: Regular submission.

Burden Hours: 300.

Number of Respondents: 500.

Average Hours per Response: 30 minutes for the initial installation and 1 minute × 6 for the removal/reinstallation of the electronic logbook (ELB).

Needs and Uses: There are currently approximately 1,932 permitted vessels that harvest shrimp from the Exclusive Economic Zone, and the Gulf of Mexico (GOM) Fishery Management Council (Council) estimates that there are over 13,000 boats that fish in state waters. With such a large number of vessels of differing sizes, gears used, and fishing capabilities compounded by seasonal variability in abundance and price and the broad geographic distribution of the fleet, it is practically impossible to estimate the actual amount of fishing effort using current methods and data. The only practical way of improving the estimates of the amount and type of bycatch is by having a more precise means of estimating effort. Therefore, Amendment 13 to the GOM shrimp fishery amended the Fishery Management Plan to include a mandatory electronic logbook program for a random sample of federally-permitted vessels.

Affected Public: Businesses or other for-profit organizations.

Frequency: Every two months.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 29, 2009.
Gwellnar Banks,
Management Analyst, Office of the Chief Information Officer.

[FR Doc. E9-12926 Filed 6-2-09; 8:45 am]

BILLING CODE 3510-22-P